DEPARTMENT OF THE INTERIOR

National Park Service

Oil and Gas Management Plan, Final Environmental Impact Statement, Big Thicket National Preserve, TX

AGENCY: National Park Service, Department of the Interior.

ACTION: Notice of Availability of a Record of Decision on the Final Environmental Impact Statement for the Oil and Gas Management Plan, Big Thicket National Preserve.

SUMMARY: Pursuant to section 102(2)(C) of the National Environmental Policy Act of 1969, 83 Stat. 852, 853, codified as amended at 42 U.S.C 4332(2)(C), the National Park Service announces the availability of the Record of Decision on the Final Environmental Impact Statement for the Oil and Gas Management Plan, Big Thicket National Preserve, Texas. On February 3, 2006, the Director, Intermountain Region approved the Record of Decision for the project. As soon as practicable, the National Park Service will begin to implement the Preferred Alternative contained in the FEIS issued on December 16, 2006. The following course of action will occur under the preferred alternative: An oil and gas management plan will be implemented that clearly articulates the Current Legal and Policy Requirements applicable to the exploration, production, and transportation of nonfederal oil and gas resources in the Preserve; performance standards, mitigation measures, and operating stipulations will be developed and applied Preserve-wide to protect resources and values; and Special Management Areas will be formally designated and will include timing and surface use stipulations for different types of nonfederal oil and gas operations. This course of action and 2 alternatives were analyzed in the Draft and Final Environmental Impact Statements. The full range of foreseeable environmental consequences was assessed, and appropriate mitigating measures were identified.

The Record of Decision includes a description of the background of the project, statement of the decision made, mitigation measures/monitoring, synopses of other alternatives considered, the basis for the decision, a finding on impairment of park resources and values, a description of the environmentally preferred alternative, and an overview of public and agency involvement in the decision-making process.

FOR FURTHER INFORMATION CONTACT: Linda Dansby, P.O. Box 728, Santa Fe, New Mexico 87504-0728; 505-988-6095.

SUPPLEMENTARY INFORMATION: Copies of the Record of Decision may be obtained from the contact listed above or online at htp://parkplanning.nps.gov.

Dated: February 3, 2006.
Michael D. Snyder,
Regional Director, Intermountain Region, National Park Service.

[FR Doc. 06-1899 Filed 2-27-06; 8:45 am]

BILLING CODE 4312-CB-M